FEDERAL COMMUNICATIONS COMMISSION

[GN Docket No. 13-5; DA 13-383]

First Technology Transitions; Policy Task Force Workshop

AGENCY: Federal Communications Commission.

ACTION: Notice.

SUMMARY: In this document the Federal Communications Commission (FCC) provides a detailed agenda for the workshop scheduled for March 18, 2013 in Washington, DC. This event is the first in a planned series of workshops to analyze technology transitions from narrowband to broadband; from time-division multiplexing (TDM) to Internet Protocol (IP); from copper to fiber; from only wireline services to greater use of wireless and their implications for modernizing Commission policy.

DATES: The workshop information is as follows:

Date: March 18, 2013.

Time: 9:30 a.m.-4:00 p.m. (EST).

Location: Commission Meeting Room, Federal Communications Commission, 445 12th Street SW., Washington, DC 20554.

9:30 a.m.-10:00 a.m. Welcome and Opening Remarks.

10:00 a.m.-11:30 a.m. Technological Capabilities—This panel will discuss the technological capabilities of wireless and wireline (copper, fiber and coax) technologies today and in the future.

11:30 a.m.-12:30 p.m. Lunch Break.

12:30 p.m.-2:00 p.m. Usage and Adoption—This panel will examine the adoption and use of various technologies across the diverse demographics of our nation.

2:00 p.m.-2:30 p.m. Break.

2:30 p.m.-4:00 p.m. Network Evolution—transition for different wireline and wireless. This panel will examine the timing of the technological networks as well as examine drivers for the timing of the technology transition.

ADDRESSES: Federal Communications Commission, Commission Meeting Room, 445 12th Street SW., Washington, DC 20554.

FOR FURTHER INFORMATION CONTACT: For additional information about the meeting, please contact Rebekah Goodheart, Deputy Director, Technology Transitions Policy Task Force, at (202) 418-1438 or rebekah.goodheart@fcc.gov.

SUPPLEMENTARY INFORMATION: The FCC will attempt to accommodate as many attendees as possible; however, admittance will be limited to seating availability. The Commission will provide audio and/or video coverage of the meeting over the Internet from the FCC's Web page at http://www.fcc.gov/live. Open captioning will be provided for this event. Other reasonable accommodations for people with disabilities are available upon request. Requests for such accommodations should be submitted via email to fcc504@fcc.gov or by calling the Consumer & Governmental Affairs Bureau at (202) 418-0530 (voice), (202) 418-0432 (tty). Such requests should include a detailed description of the accommodation needed. In addition, please include a way the FCC can contact you if it needs more information. Please allow as much advance notice as possible; last-minute requests will be accepted, but may be impossible to fill.

We also take this opportunity to remind the public that presentations to decision-making personnel that go to the merits of the Commission's pending permit-but-disclose proceeding in GN Docket No. 13-5 regarding the work of the Technology Transitions Policy Task Force, see Ex Parte Meetings with the Technology Transitions Policy Task Force, Public Notice, 28 FCC Rcd 105 (2013), must comply with the Commission's ex parte rules, see, e.g., 47 CFR.1.1200 et seq. Interested parties are also invited to submit written comments in this public docket.

Attendance—This Workshop is open to the public. In order to ensure space availability and expedite the security check-in process, please submit name and company affiliation ahead of time by sending an email to susan.fisenne@fcc.gov. All attendees are advised to arrive approximately 30 minutes prior to the start of the workshop to allow time to go through our security process.

Lunch: Attendees may pre-order lunch, to be picked up by FCC staff, from the Potbelly Sandwich Shop. To place your order online, go to http://www.potbelly.com/Shops/OrderOnline.aspx and follow these instructions:

• Which Shop?, enter the FCC's address at 445 12th Street SW., Washington, DC, and then select the Potbelly Shop located at 1240 Maryland Ave. SW., Washington

• Carryout or Delivery?: Carryout

• Pickup Date?: March 18, 2013

• Pickup Time?: 10:30 a.m.

• Make your lunch and beverage selections

• Who is this Item for?: First and last name followed by “FCC,” i.e., John Smith FCC

• Contact Information: Complete your contact information and after your last name, include “-FCC”

• Credit Card Information: Provide your credit card information and submit your order.

Federal Communications Commission.
Sean Lev,
General Counsel.

[FR Doc. 2013-06287 Filed 3-14-13; 4:15 pm]

BILLING CODE 6712-01-P